DEPARTMENT OF AGRICULTURE

Animal and Plant Health Inspection Service

[Docket No. APHIS-2014-0078]

Field Release of Diaphorencyrtus aligarhensis for the Biological Control of Asian Citrus Psyllid in the Contiguous United States; Availability of an Environmental Assessment

AGENCY: Animal and Plant Health Inspection Service, USDA.

ACTION: Notice of availability and request for comments.

SUMMARY: We are advising the public that a draft environmental assessment has been prepared by the Animal and Plant Health Inspection Service relative to the proposed release of Diaphorencyrtus aligarhensis for the biological control of the Asian citrus psyllid, Diaphorina citri, in the contiguous United States. We are making this environmental assessment available to the public for review and comment.

DATES: We will consider all comments that we receive on or before October 20, 2014.

ADDRESSES: You may submit comments by either of the following methods:

• Federal eRulemaking Portal: Go to http://www.regulations.gov/#!docketDetail;D=APHIS-2014-0078.

• Postal Mail/Commercial Delivery: Send your comment to Docket No. APHIS-2014-0078, Regulatory Analysis and Development, PPD, APHIS, Station 3A-03.8, 4700 River Road, Unit 118, Riverdale, MD 20737-1238.

Supporting documents and any comments we receive on this docket may be viewed at http://www.regulations.gov/#!docketDetail;D=APHIS-2014-0078 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Shirley A Wager-Pagé, Assistant Director, Pest Permitting Branch, Registration, Identification, Permitting, and Plant Safeguarding, PPQ, APHIS, 4700 River Road, Unit 133, Riverdale, MD 20737-1236; (301) 851-2323.

SUPPLEMENTARY INFORMATION: The Asian citrus psyllid (Diaphorina citri; ACP), can cause economic damage to citrus in groves and nurseries by direct feeding. Both adults and nymphs feed on young foliage, depleting the sap and causing galling or curling of leaves. High populations feeding on a citrus shoot can kill the growing tip.

ACP's primary threat to citrus, however, is not as a direct plant pest, but as an efficient vector of the bacterial pathogen that causes citrus greening. Also known as Huanglongbing (HLB), citrus greening is considered to be one of the most serious citrus diseases in the world. HLB is a bacterial disease, caused by strains of the bacterial pathogen “Candidatus Liberibacter asiaticus,” that attacks the vascular system of host plants. The pathogen is phloem-limited, inhabiting the food-conducting tissue of the host plant, and causes yellow shoots, blotchy mottling and chlorosis, reduced foliage, and tip dieback of citrus plants. HLB greatly reduces production, destroys the economic value of the fruit, and can kill trees. Once infected, there is no cure for a tree with HLB. In areas of the world where the disease is endemic, citrus trees decline and die within a few years and may never produce usable fruit.

ACP is currently present in Alabama, American Samoa, Florida, Georgia, Guam, Hawaii, Louisiana, Mississippi, the Northern Mariana Islands, Puerto Rico, Texas, the U.S. Virgin Islands, and portions of Arizona, California, and South Carolina. The Animal and Plant Health Inspection Service (APHIS) is proposing to issue permits for the field release of a parasitic wasp, Diaphorencyrtus aligarhensis, to reduce the severity of infestations of ACP in the United States and retard the spread of HLB.

APHIS' review and analysis of the potential environmental impacts associated with this proposed release are documented in detail in an environmental assessment entitled “Field Release of Diaphorencyrtus aligarhensis for the Biological Control of the Asian Citrus Psyllid in the Contiguous United States” (June 2014). We are making this environmental assessment available to the public for review and comment. We will consider all comments that we receive on or before the date listed under the heading DATES at the beginning of this notice.

The environmental assessment may be viewed on the Regulations.gov Web site or in our reading room (see ADDRESSES above for a link to Regulations.gov and information on the location and hours of the reading room). You may request paper copies of the environmental assessment by calling or writing to the person listed under FOR FURTHER INFORMATION CONTACT. Please refer to the title of the environmental assessment when requesting copies.

The environmental assessment has been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 12th day of September 2014.
Kevin Shea,
Administrator, Animal and Plant Health Inspection Service.

[FR Doc. 2014-22288 Filed 9-17-14; 8:45 am]

BILLING CODE 3410-34-P